DEPARTMENT OF COMMERCE

National Oceanic and Atmospheric Administration

[Docket No. 030602141-5194-19; I.D. 061505A]

RIN 0648-ZB55

Availability of Grants Funds for Fiscal Year 2006; Extension of Application Deadline

AGENCY: National Marine Fisheries Service (NMFS), National Oceanic and Atmospheric Administration (NOAA), Commerce.

ACTION: Notice.

SUMMARY: The NMFS publishes this notice to extend the solicitation period on the following initiative originally announced in the Federal Register on June 30, 2005: Right Whale Research Grant Program (NMFS-NEFSC-2006-2000252). NOAA extends the solicitation period from August 1, 2005, to August 15, 2005, to provide the public more time to submit proposals. All other requirements for this solicitation remain the same.

DATES: Full proposals must be received by 5 p.m. eastern time on August 15, 2005. Applicants without access to the Internet may submit paper applications using the same deadlines as electronic applications.

ADDRESSES: The address for submitting proposals electronically, to obtain the Full Funding Opportunity and the June 30, 2005, Federal Register notice (70 FR 37766) is: http://www.grants.gov/. Electronic submission is strongly encouraged. Applicants without access to the Internet may submit paper documents regarding the initiative to the following address: Right Whale Competitive Grants Program, NMFS, Northeast Fisheries Science Center, 166 Water Street, Woods Hole, MA 02543.

FOR FURTHER INFORMATION CONTACT: Kelly Taranto, NMFS, Northeast Fisheries Science Center, 166 Water Street, Woods Hole, MA 02543 or by phone at 508-495-2312, or fax at 508-495-2004, or via e-mail at Kelly.taranto@noaa.gov. Please contact Kelly Taranto to obtain a copy of the Full Funding Opportunity announcement.

Dated: July 21, 2005.
William T. Hogarth
Assistant Administrator for Fisheries, National Marine Fisheries Service.

[FR Doc. 05-14883 Filed 7-26-05; 8:45 am]

BILLING CODE 3510-12-S